DEPARTMENT OF HEALTH AND HUMAN SERVICES

Centers for Medicare & Medicaid Services

[Document Identifiers: CMS-10418, CMS-10507, and CMS-10157]

Agency Information Collection Activities: Submission for OMB Review; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by March 5, 2014:

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of currently approved collection; Title of Information Collection: Annual MLR and Rebate Calculation Report and MLR Rebate Notices; Use: We will use the data collection of annual reports provided by an issuer for each state's individual, small group, and large group markets to ensure that consumers are receiving value for their premium dollar by calculating each issuer's medical loss ratio (MLR) and any rebate payments due for the respective MLR reporting year, as well as verifying the provision of any rebates and the provisions of the rebate notices. The notices will be used to ensure that consumers are receiving information about the rebate they will be receiving, how their issuer is using health care premium dollars and about the value they are receiving for their premium dollar. The notices will help provide greater transparency to consumers. We will use the recordkeeping requirements to determine issuers' compliance with the MLR requirements, including compliance with how issuers' experience is to be reported, their MLR and any rebates owing are to be calculated, distribution of rebates and provisions of rebate notices. Additionally, each issuer is required to maintain for a period of seven years all documents, records and other evidence that support the data included in each issuer's annual report to the Secretary. The 60-day Federal Register notice that published on November 22, 2013 (78 FR 70059) pertained to the 2013 MLR Annual Reporting Form and Instructions, and closed on January 21, 2014. We received a total of 2 public comments on 12 specific issues regarding the notice of the revised MLR PRA package. Most of the comments addressed clarifying the instructions, updates for recent guidance issuance, treatment of Student Health Plans, treatment of Affordable Care Act fees, adjusted MLR standard experience aggregation, annual Mini-med multipliers for credibility determination, reporting for both QIA and non-claims costs and reporting requirements for businesses in run-off. We considered all of the proposed suggestions and have revised the 2013 MLR Annual Reporting Form and Instructions. Form Number: CMS-10418 (OCN: 0938-1164); Frequency: Annually; Affected Public: Private sector (business or other for-profits and not-for-profit institutions); Number of Respondents: 522; Total Annual Responses: 3,394; Total Annual Hours: 294,911. (For policy questions regarding this collection contact Julie McCune at 301-492-4196.)

2. Type of Information Collection Request: New collection (Request for a new OMB control number); Title of Information Collection: State-based Marketplace Annual Reporting Tool (SMART); Use: The annual report is the primary vehicle to insure comprehensive compliance with all reporting requirements contained in the Affordable Care Act. It is specifically called for in section 1313(a)(1) of the Act which requires that an SBM keep an accurate accounting of all activities, receipts, and expenditures, and to submit a report annually to the Secretary concerning such accounting. We will use the information collected from states to assist in determining if a state is maintaining a compliant operational Exchange. It will also provide a mechanism to collect innovative approaches to meeting challenges encountered by the SBMs during the preceding year as well as providing information to us regarding potential changes in priorities and approaches for the upcoming year. Form Number: CMS-10507 (OCN: 0938-NEW); Frequency: Annually; Affected Public: State, Local, or Tribal Governments; Number of Respondents: 19; Total Annual Responses: 19; Total Annual Hours: 1,482. (For policy questions regarding this collection contact Shelley Bain at 301-492-4453.)

3. Type of Information Collection Request: Reinstatement of a previously approved collection; Title of Information Collection: HIPAA Eligibility Transaction System (HETS) Trading Partner Agreement (TPA); Use: The HETS is intended to allow the release of eligibility data to Medicare providers, suppliers or their authorized billing agents for the purposes of preparing accurate Medicare claims, determining beneficiary liability or determining eligibility for specific services. Such information may not be disclosed to anyone other than providers, suppliers or a beneficiary for whom a claim has been filed. Form Number: CMS-10157 (OCN: 0938-0960); Frequency: Yearly; Affected Public: Private sector (business or other for-profit and not-for-profit institutions); Number of Respondents: 1,000; Total Annual Responses: 1,000; Total Annual Hours: 125. (For policy questions regarding this collection contact Ada Sanchez at 410-786-9466.)

Dated: January 28, 2014.
Martique Jones,
Deputy Director, Regulations Development Group, Office of Strategic Operations and Regulatory Affairs.

[FR Doc. 2014-02061 Filed 1-30-14; 8:45 am]

BILLING CODE 4120-01-P